DEPARTMENT OF THE INTERIOR

Bureau of Reclamation

[FES00-54]

East Bay Municipal Utility District Supplemental Water Supply Project

AGENCY: Bureau of Reclamation, Interior.

ACTION: Notice of availability of Final Environmental Impact Report/Final Environmental Impact Statement (FEIR/FEIS).

SUMMARY: Pursuant to the National Environmental Policy Act (NEPA) and the California Environmental Quality Act, the Bureau of Reclamation (Reclamation) and the East Bay Municipal Utility District (EBMUD) have prepared a joint FEIR/FEIS for the EBMUD Supplemental Water Supply Project. Reclamation and EBMUD prepared a draft environmental impact report/draft environmental impact statement (DEIR/DEIS) for the proposed project in November 1997, and a draft recirculated environmental impact report/supplemental environmental impact statement (REIR/SEIS) in October 2000. The FEIR/FEIS incorporates the DEIR/DEIS and REIR/SEIS, by reference, and includes all comments received on the DEIR/DEIS and the REIR/SEIS, and responses to those comments.

DATES: No decision will be made on the proposed action until at least 30 days after release of the FEIR/FEIS. After the 30-day waiting period, Reclamation will be preparing a Record of Decision (ROD) and EBMUD will be preparing a Notice of Determination, both of which will state the action that will be implemented and will discuss all factors leading to the respective decision of each agency. When an alternative is selected and the ROD is signed, Reclamation and EBMUD will resume negotiations on the amendatory contract to conform the contract terms to accurately reflect the selected alternative.

ADDRESSES: Copies of the FEIR/FEIS may be requested from Ms. Ann Reis, Water Supply Improvements Division, EBMUD, P.O. Box 24055, MS #305, Oakland CA 94623, (510) 287-1197.

See “Supplementary Information” section for locations where copies of the FEIR/FEIS are available for inspection.

FOR FURTHER INFORMATION CONTACT: Mr. Kurt Ladensack, Water Supply Improvements Division, EBMUD, P.O. Box 24055, MS #305, Oakland CA 94623, (510) 287-1197; or Mr. Robert Schroeder, Environmental Specialist, Reclamation, Central California Area Office, 7794 Folsom Dam Road, Folsom CA 95630, (916) 988-1707.

SUPPLEMENTARY INFORMATION: The federal action supported by this FEIS/FEIR is execution of an amendment to the 1970 contract. The amendatory contract will provide for a selection of one of the following alternative diversion sites under the identified and other appropriate conditions:

• A diversion of EBMUD's contractual supply at “site 5” on the American River (alternative 4) that must include the completion, prior to construction, of a satisfactory water storage strategy which will allow EBMUD to meet project purposes within the necessary flow pattern limitations. The storage strategy must include all necessary additional environmental documentation and be completed in a satisfactory manner. Additionally, the amendatory contract will include for “site 5” specific diversion rates and schedules (e.g., Hodge flows for “site 5”), which will be in effect for the duration of the contract, and will assure compliance with the State Wild and Scenic Rivers Act.

• A diversion of EBMUD's contractual supply at Freeport on the Sacramento River (alternative 6), instead of an American River diversion. The Freeport diversion would be structured to allow and encourage regional water management partnerships that will consider interim water supplies to be made available by regional partners.

The amendatory contract will prohibit deliveries of water diverted at Nimbus Dam as currently provided in Article 9(a) of the existing 1970 contract. However, if permitting and necessary agreements for another point of diversion are not completed by a certain date, EBMUD will have the right to deliveries as provided in Article 9(a) of the existing 1970 contract.

The amendatory contract will provide that in order for diversions to occur at any of the diversion sites identified above, all relevant state and federal laws and regulations must be complied with, and approval of the Contracting Officer is required. The Contracting Officer will initiate and complete consultation under Section 7 of the Endangered Species Act, and will comply with NEPA, as applicable, prior to approving any such diversions.

Included in the FEIR/FEIS, for clarity of reference only, is Appendix A. It is a draft amendatory contract that Reclamation circulated for public comment in December 1998. The REIR/SEIS and FEIR/FEIS refers to the provisions of the December 1998, draft amendatory contract. Although the entire 1998 draft amendatory contract is included in this FEIR/FEIS, Reclamation and EBMUD expect to replace this amendatory contract with a new draft amendatory contract that conforms to the provisions contained within the ROD.

Copies of the FEIR/FEIS are available for inspection at the following locations:

• East Bay Municipal Utility District at 375 Eleventh Street in Oakland CA 94607-4240

• Sacramento County Water Agency at 827 Seventh Street, Room 301 in Sacramento CA 95814

• City of Sacramento Utilities Department at 5770 Freeport Boulevard, Suite 100 in Sacramento CA 95822

• Sacramento County Clerk-Recorder's Office at 600 Eighth Street in Sacramento CA 95814

• Bureau of Reclamation, Office of Public Affairs at 2800 Cottage Way in Sacramento CA 95825

• Bureau of Reclamation, Folsom Area Office at 7794 Folsom Dam Road in Folsom CA 95630

• Library, Bureau of Reclamation at 6th Avenue and Kipling, Room 167, Building 67, Denver Federal Center in Denver CO 80225-0007

• Natural Resources Library, U.S. Department of the Interior at 1849 C Street NW, Main Interior Building in Washington DC 20240-0001

• Sacramento Central Library at 828 I Street in Sacramento CA 95814

• Lodi Public Library at 201 W. Locust Street in Lodi CA 95240

• Caesar Chavez Central Library at 605 N. El Dorado Street in Stockton CA 95202

• Science, Social Science & Government Documents Department, Oakland Public Library at 125 14th Street in Oakland CA 94612

• Contra Costa County Clerk's Office at 730 Las Juntas in Martinez CA 94553

• Alameda County Clerk's Office at 1225 Fallen Street in Oakland CA 94612

• San Joaquin County Clerk's Office at 24 S. Hunter, Room 304 in Stockton CA 95202

• Elk Grove Branch Library at 8962 Elk Grove Boulevard in Elk Grove CA 95624

• Rancho Cordova Community Library at 9845 Folsom Boulevard in Rancho Cordova CA 95827

• Herald Fire Station at 12746 Ivie Road in Herald CA 95638

• Galt Branch Library at 1000 Caroline Avenue in Galt CA 95632

• Tracy Public Library at 20 E. Eaton Avenue in Tracy CA 95376

• Amador Public Library at 25 East Main in Ione CA 95640

• Calaveras County Central Library at 891 Mountain Ranch Road in San Andreas CA 95249

• Community Development Department at 104 Oak Street in Brentwood CA 94513

• City Hall at 708 3rd Street in Brentwood CA 94513

• Brentwood Library at 751 3rd Street in Brentwood CA 94513

• Antioch Library in 501 West 18th Street in Antioch CA 95409

• Antioch Planning Department at Third and H Street in Antioch CA 94531

• City Clerk/Records Department at 65 Civic Avenue in Pittsburg CA 94565

• Pittsburg Library at 80 Power Avenue in Pittsburg CA 94565

• Contra Costa County Public Library at 1664. N. Broadway in Walnut Creek CA 94596

Dated: December 5, 2000.
Kirk C. Rodgers,
Deputy Regional Director.

[FR Doc. 00-31606 Filed 12-11-00; 8:45 am]

BILLING CODE 4310-MN-P